DEPARTMENT OF COMMERCE

National Oceanic and Atmospheric Administration

RIN 0648-X103

Atlantic Coastal Fisheries Cooperative Management Act Provisions; Application for Exempted Fishing Permit; Horseshoe Crabs

AGENCY: National Marine Fisheries Service (NMFS), National Oceanic and Atmospheric Administration (NOAA), Commerce.

ACTION: Notification of a proposal to conduct exempted fishing; request for comments.

SUMMARY: NMFS announces that the Director, Office of Sustainable Fisheries (Director), has made a preliminary determination that the subject exempted fishing permit (EFP) application submitted by Limuli Laboratories of Cape May Court House, New Jersey, contains all the required information and warrants further consideration. The proposed EFP would allow the harvest of up to 10,000 horseshoe crabs from the Carl N. Shuster Jr. Horseshoe Crab Reserve for biomedical purposes and require, as a condition of the EFP, the collection of data related to the status of horseshoe crabs within the reserve. The Director has also made a preliminary determination that the activities authorized under the EFP would be consistent with the goals and objectives of the Atlantic States Marine Fisheries Commission's (Commission) Horseshoe Crab Interstate Fisheries Management Plan (FMP). However, further review and consultation may be necessary before a final determination is made to issue the EFP. Therefore, NMFS announces that the Director proposes to recommend that an EFP be issued that would allow up to 3 commercial fishing vessels to conduct fishing operations that are otherwise restricted by the regulations promulgated under the Atlantic Coastal Fisheries Cooperative Management Act (Atlantic Coastal Act). The EFP would allow for an exemption from the Carl N. Shuster Jr. Horseshoe Crab Reserve (Reserve).

Regulations under the Atlantic Coastal Act require publication of this notification to provide interested parties the opportunity to comment on applications for proposed EFPs.

DATES: Written comments on this action must be received on or before [July 2, 2008.

ADDRESSES: Written comments should be sent to Alan Risenhoover, Director, Office of Sustainable Fisheries, NMFS, 1315 East-West Highway, Room 13362, Silver Spring, MD 20910. Mark the outside of the envelope “Comments on Horseshoe Crab EFP Proposal.” Comments may also be sent via fax to (301) 713-0596. Comments on this notice may also be submitted by e-mail to: Horseshoe-Crab.EFP@noaa.gov. Include in the subject line of the e-mail comment the following document identifier: Horseshoe Crab EFP Proposal.

FOR FURTHER INFORMATION CONTACT: Brian Hooker, Fishery Management Specialist, (301) 713-2334 x173.

SUPPLEMENTARY INFORMATION:

Background

Limuli Laboratories submitted an application for an EFP on April 25, 2008 to collect up to 10,000 horseshoe crabs for biomedical and data collection purposes from the Reserve. The applicant has applied for, and received, a similar EFP every year from 2001 - 2007. The EFP application specified that: (1) the same methods would be used in 2008 that were used in years 2001-2007, (2) at least 15 percent of the bled horseshoe crabs would be tagged, and (3) there had not been any sighting or capture of marine mammals or endangered species in the trawling nets of fishing vessels engaged in the collection of horseshoe crabs since 1993. The project submitted by Limuli Laboratories would provide morphological data on horseshoe crab catch, would participate in the U.S. Fish and Wildlife Service's Cooperative Tagging Program by tagging caught horseshoe crabs, and would use the blood from the caught horseshoe crabs to manufacture Limulus Amebocyte Lysate (LAL), an important health and safety product used for the detection of endotoxins. The LAL assay is used by medical professionals, drug companies, and pharmacies to detect endotoxins in intravenous pharmaceuticals and medical devices that come into contact with human blood or spinal fluid.

Results of 2007 EFP

During the 2007 season the applicant collected 3,748 horseshoe crabs during 15 days between September and November, transported to the laboratory and inspected for sex, size, injuries and responsiveness prior to the bleeding operation. Injured horseshoe crabs accounted for 6.51-percent (a slight decrease from 6.99-percent in 2006) of the total while 0.91-percent (a decrease from 2.1-percent last year) were unresponsive due to collecting, transporting and handing (presumed dead). In addition, 7 horseshoe crabs were rejected due to small size and not utilized in the manufacturing process. Therefore, 3,463 healthy, uninjured crabs were available for LAL processing. Since large horseshoe crabs, which are generally females, are used for LAL processing, most were females. Of those 3,463 processed for LAL, 200 female crabs were measured (inter-ocular distances and prosoma widths), weighed, aged, and tagged to establish baseline morphometrics and ages, prior to being returned to the water. An additional 375 animals that were bled were tagged for a total of 575 animals. The average measurements for the female horseshoe crabs were 163.90 mm for the inter-ocular distance (a slight decrease from the 2006 measurement of 167.69 mm); 267.56 mm for the prosoma width (a slight decrease in width from 2006 measurement of 268.74 mm); and 2.58 kg for the weight (a slight increase in weight from 2006 value of 2.51 kg). Age determination according to an aging technique developed by Carl N. Shuster Jr., showed that the majority of female horseshoe crabs were medium (147 or 73-percent), followed by young (40-percent), old (10-percent), and virgin (3-percent). This finding supports the basis for the Reserve, which was established to protect young horseshoe crabs. Encrusting organisms were found on 121 of the female animals examined. The most prevalent epibionts on the females was the slipper shell. Data collected under the EFP were supplied to NMFS, the Commission, and the State of New Jersey.

Proposed 2008 EFP

Limuli Laboratories proposes to conduct an exempted fishery operation using the same means, methods, and seasons utilized during the EFPs in 2001-2007. Limuli proposes to continue to tag at least 15 percent of the bled horseshoe crabs as they did in 2007. NMFS would require that the following terms and conditions for issuance of the EFP:

1. Limiting the number of horseshoe crabs collected in the Reserve to no more than 500 crabs per day and to a total of no more than 10,000 crabs per year;

2. Requiring collections to take place over a total of approximately 20 days during the months of July, August, September, October, and November. Horseshoe crabs are readily available in harvestable concentrations nearshore earlier in the year, and offshore in the Reserve from July through November;

3. Requiring that a 5 ½ inch (14.0 cm) flounder net be used by the vessel to collect the horseshoe crabs. This condition would allow for continuation of traditional harvest gear and adds to the consistency in the way horseshoe crabs are harvested for data collection;

4. Limiting trawl tow times to 30 minutes as a conservation measure to protect sea turtles, which are expected to be migrating through the area during the collection period, and are vulnerable to bottom trawling;

5. Restricting the hours of fishing to daylight hours only, approximately from 7:30 a.m. to 5 p.m. to aid law enforcement;

6. Requiring that the collected horseshoe crabs be picked up from the fishing vessels at docks in the Cape May Area and transported to local laboratories, bled for LAL, and released alive the following morning into the Lower Delaware Bay; and

7. Requiring that any turtle take be reported to NMFS, Northeast Region Assistant Regional Administrator of Protected Resources Division within 24 hours of returning from the trip in which the incidental take occurred.

As part of the terms and conditions of the EFP, for all horseshoe crabs bled for LAL, NMFS would require that the EFP holder provide data on sex ratio and daily harvest. Also, the EFP holder would be required to examine at least 200 horseshoe crabs for morphometric data. Terms and conditions may be added or amended prior to the issuance of the EFP.

The proposed EFP would exempt three commercial vessels from regulations at 50 CFR 697.7(e) and § 697.23(f) which prohibit the harvest and possession of horseshoe crabs on a vessel with a trawl or dredge gear aboard from the Reserve.

Authority: 16 U.S.C. 1801 et seq.

Dated: May 23, 2008.
Emily Menashes,
Acting Director, Office of Sustainable Fisheries, National Marine Fisheries Service.

[FR Doc. E8-12261 Filed 5-30-08; 8:45 am]

BILLING CODE 3510-22-S